DEPARTMENT OF TRANSPORTATION

Maritime Administration

[Docket No. DOT-MARAD-2021-0150]

Request for Comments on the Renewal of a Previously Approved Information Collection: U.S. Merchant Marine Academy Candidate Application for Admission

AGENCY: Maritime Administration, DOT.

ACTION: Notice and request for comments.

SUMMARY: The Maritime Administration (MARAD) invites public comments on our intention to request the Office of Management and Budget (OMB) approval to renew an information collection. The information to be collected will be used to apply for admission to the U.S. Merchant Marine Academy. Collection of information is completed digitally through an online candidate portal. Part I of the Candidate Application is used to establish initial eligibility. The Academic Information Request, Candidate Activities Record, School Official Evaluations and Biographical Essay are used by the USMMA admissions staff and its Candidate Evaluation Board to select the best qualified candidates for the Academy. Result from the administration of the Candidate Fitness Assessment are used to determine physical qualification. Candidates may also submit an optional resume and additional recommendation letters with their application. We are required to publish this notice in the Federal Register by the Paperwork Reduction Act of 1995.

DATES: Comments must be submitted on or before October 4, 2021.

ADDRESSES: You may submit comments [identified by Docket No. DOT-MARAD-2021-0150] through one of the following methods:

• Federal eRulemaking Portal: www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: CDR Mike Bedryk, CDR USMS, Director of Admissions, 516.726.5641, U.S. Merchant Marine Academy, 300 Steamboat Road, New York, NY 11024, www.usmma.edu/admissions.

SUPPLEMENTARY INFORMATION:

Title: U.S. Merchant Marine Academy Candidate Application for Admission.

OMB Control Number: 2133-0010.

Type of Request: Renewal of a Previously Approved Information Collection.

Abstract: Regulations pertaining to the U.S. Merchant Marine Academy (USMMA) appeared in the Federal Register (Vol. 47, No. 98, p. 21811, dated May 20, 1982) as a final rule. Part 310.57(a) of 46 CFR provides for the collection of information from anyone who is a prospect for admission. It states that “all candidates shall submit an application for admission to the Academy's Admissions Office.” Thus, the collection of information through the use of a digital application is the primary means by which selections for admission are made. The information collection consists of Part I, the Academic Information Request, Candidate Activities Record, three School Official Evaluation and Biographical Essay and Candidate Fitness Assessment. Part I of the form is completed by individuals wishing to be admitted as students to the U.S. Merchant Marine Academy. The information from the Academic Information Request, Candidate Activities Record, School Official Evaluations and Biographical Essay is used by the USMMA admissions staff and its Candidate Evaluation Board to select the best qualified candidates for the Academy.

Respondents: Individuals desiring to become students at the U.S. Merchant Marine Academy.

Affected Public: Individuals or Households.

Estimated Number of Respondents: 2,000.

Estimated Number of Responses: 2,000.

Estimated Hours per Response: 5 Hours.

Annual Estimated Total Annual Burden Hours: 10,000.

Frequency of Response: Annually.

(Authority: The Paperwork Reduction Act of 1995; 44 U.S.C. chapter 35, as amended; and 49 CFR 1.93.)

* * *

By Order of the Acting Maritime Administrator.
T. Mitchell Hudson, Jr.,
Secretary, Maritime Administration.

[FR Doc. 2021-16714 Filed 8-4-21; 8:45 am]

BILLING CODE 4910-81-P